DEPARTMENT OF JUSTICE

Antitrust Division

Notice Pursuant to the National Cooperative Research and Production Act of 1993—Information Warfare Research Project Consortium

Notice is hereby given that, on October 16, 2024, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, 1Aardvark, LLC, Chantilly, VA; Accelerated Solutions, Inc., Athens, GA; Applied Intuition Government, Inc., Arlington, VA; Applied Physical Sciences Corp., Groton, CT; Bluedrop USA, Inc., Orlando, FL; Client/Server Software Solutions, Inc., Vienna, VA; Crowdpulse LLC, St. Petersburg, FL; FedLearn, Inc., Alexandria, VA; Genuine Cable Group LLC Seacoast Division, Chesapeake, VA; Integrated Consultants, Inc., San Diego, CA; MARi LLC, Alexandria, VA; Marine Ventures International, Inc., Stuart, FL; Meroxa, Inc., San Jose, CA; Open SAN Consulting LLC, Atlanta, GA; Ozni AI LLC, Colorado Springs, CO; Pacific Antenna Systems LLC, Camarillo, CA; Parley Labs Holding, Inc., Costa Mesa, CA; PTS Expeditionary Communications, Huntsville, AL; Radius Method LLC, Boca Raton, FL; Red Peak Technical Services LLC, Anchorage, AK; Red River Resources LLC, San Diego, CA; SRR International, Inc., Riviera Beach, FL; Symbiosis.io LLC, Smryna, GA; Tetramer Technologies LLC, Pendleton, SC; and Vadum, Inc., Raleigh, NC, have been added as parties to this venture.

Also, 502 Design Services, Inc., Palm Harbor, FL; A5G Networks, Inc., Westford, MA; Adaptive Intelligence Corp., Banks, OR; Alchemy Global Networks LLC, Nicholasville, KY; Attila Security, Columbia, MD; Baker Street Scientific, Inc., Rome, GA; BeyondTrust Corp., Duluth, GA; Blue Danube Systems, Inc., Santa Clara, CA; BoxBoat Technologies LLC, Bethesda, MD; Celona, Inc., Cupertino, CA; Center for Human Capital Innovation, Alexandria, VA; CIS Mobile, Ashburn, VA; Command Decisions Systems & Solutions, Inc., Stafford, VA; COMSovereign Holding Corp., Dallas, TX; Creoal Consulting LLC, Bethesda, MD; CRFS, Inc,. Chantilly, VA; Entech Web Solutions, Inc., Dunellen, NJ; Grace Innovations LLC, Arlington, VA; Granite Telecommunications LLC, Quincy, MA; GSD LLC, Williamsburg, VA; Jasper Solutions, Inc., Huntington Station, NY; L3 Telemetry & RF Products Division, San Diego, CA; Lockheed Martin Rotary & Missions Systems, Bethesda, MD; NAVMAR Applied Sciences Corp., Warminster, PA; NEC Corp. of America, Arlington, VA; NetApp US Public Sector, Vienna, VA; NETSCOUT Systems, Inc., Westford, MA; Northeast Information Discovery, Inc., Canastota, NY; Nusura, Inc., Denver, CO; Precision Solutions LLC, Owings Mills, MD; Promia, Inc., Novato, CA; R2 Space, Inc. dba Orbital Effects, Ann Arbor, MI; Raytheon Integrated Defense Systems, Portsmouth, RI; Ribbon Communications Federal, Westford, VA; Semantic AI, Inc., San Diego, CA; Signal Point Systems, Inc., Kennesaw, GA; Smart Security Systems LLC dba Bear Systems, Boulder, CO; Smartsheet, Inc., Bellevue, WA; Space Sciences Corp., Lemitar, NM; Spectare Systems, Inc., Pennington, NJ; Tiami LLC, Elk Grove, CA; Tracen Technologies, Inc., Manassas, VA; and Vidrovr, Inc., New York, NY, have withdrawn as parties to this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on July 12, 2024. A notice was published in the Federal Register pursuant to section 6(b) of the Act on October 11, 2024 (89 FR 82633).

Suzanne Morris,
Deputy Director Civil Enforcement Operations, Antitrust Division.

[FR Doc. 2025-01717 Filed 1-23-25; 8:45 am]

BILLING CODE P